DEPARTMENT OF AGRICULTURE

Agricultural Marketing Service

7 CFR Part 905

[Docket No. AMS-SC-20-0028; SC20-905-1 CR]

Oranges, Grapefruit, Tangerines, and Pummelos Grown in Florida; Continuance Referendum

AGENCY: Agricultural Marketing Service, USDA.

ACTION: Referendum order.

SUMMARY: This document directs that a referendum be conducted among eligible producers of oranges, grapefruit, tangerines, and pummelos grown in Florida to determine whether they favor continuance of the marketing order regulating the handling of oranges, grapefruit, tangerines, and pummelos produced in the production area.

DATES: The referendum will be conducted from October 19 through November 9, 2020. Only current fresh citrus producers within the production area that produced oranges, grapefruit, tangerines, or pummelos for the fresh market during the period of August 1, 2019, through July 31, 2020, are eligible to vote in this referendum.

ADDRESSES: Copies of the marketing order may be obtained from the Southeast Marketing Field Office, Marketing Order Agreement Division, Specialty Crops Program, AMS, USDA, 1124 First Street South, Winter Haven, FL 33880; Telephone: (863) 324-3375; from the Marketing Order and Agreement Division, Specialty Crops Program, AMS, USDA, 1400 Independence Avenue SW, STOP 0237, Washington, DC 20250-0237; Telephone: (202) 720-2491; or internet: https://www.regulations.gov.

FOR FURTHER INFORMATION CONTACT: Jennie M. Varela, Senior Marketing Specialist, or Christian D. Nissen, Regional Director, Southeast Marketing Field Office, Marketing Order and Agreement Division, Specialty Crops Program, AMS, USDA, 1124 First Street South, Winter Haven, FL 33880; Telephone: (863) 324-3375, Fax: (863) 291-8614, or Email: Jennie.Varela@usda.gov or Christian.Nissen@usda.gov.

SUPPLEMENTARY INFORMATION: Pursuant to Marketing Agreement and Order No. 905, as amended (7 CFR part 905), hereinafter referred to as the “Order,” and the applicable provisions of the Agricultural Marketing Agreement Act of 1937, as amended (7 U.S.C. 601-674), hereinafter referred to as the “Act,” it is hereby directed that a referendum be conducted to ascertain whether continuance of the Order is favored by producers. The referendum shall be conducted from October 19 through November 9, 2020, among Florida fresh citrus producers in the production area. Only current fresh citrus producers that were engaged in the production of oranges, grapefruit, tangerines, or pummelos grown in the production area, during the period of August 1, 2019, through July 31, 2020, may participate in the continuance referendum.

USDA has determined that continuance referenda are an effective means for determining whether producers favor the continuation of marketing order programs. The Order will continue in effect if at least two-thirds of the producers voting in the referendum or at least two-thirds of the volume of Florida fresh citrus represented in the referendum votes in favor of continuance. In evaluating the merits of continuance versus termination, USDA will not exclusively consider the results of the continuance referendum. USDA will also consider all other relevant information concerning the operation of the Order and the relative benefits and disadvantages to producers, handlers, and consumers in determining whether continued operation of the Order would tend to effectuate the declared policy of the Act.

In accordance with the Paperwork Reduction Act of 1995 (44 U.S.C. Chapter 35), the ballots used in the referendum have been approved by the Office of Management and Budget (OMB) and have been assigned OMB No. 0581-0189, Fruit Crops. It has been estimated it will take an average of 20 minutes for each of the approximately 500 producers of oranges, grapefruit, tangerines, and pummelos grown in Florida to cast a ballot. Participation is voluntary. Ballots postmarked after November 9, 2020, will not be included in the vote tabulation.

Jennie M. Varela, Dolores Lowenstine, and Christian D. Nissen of the Southeast Marketing Field Office, Specialty Crops Program, AMS, USDA, are hereby designated as the referendum agents of the Secretary of Agriculture to conduct this referendum. The procedure applicable to the referendum shall be the “Procedure for the Conduct of Referenda in Connection with Marketing Orders for Fruits, Vegetables, and Nuts Pursuant to the Agricultural Marketing Agreement Act of 1937, as Amended” (7 CFR 900.400 et seq.).

Ballots will be mailed to all producers of record and may also be obtained from the referendum agents or their appointees.

List of Subjects in 7 CFR Part 905

Grapefruit, Oranges, Pummelos, Reporting and recordkeeping requirements, and Tangerines.

Authority: 7 U.S.C. 601-674.

Bruce Summers,
Administrator, Agricultural Marketing Service.

[FR Doc. 2020-20745 Filed 10-5-20; 8:45 am]

BILLING CODE P